DEPARTMENT OF THE INTERIOR

[FWS-R4-ES-2022-N043; FVHC98220410150-XXX-FF04H00000]

Louisiana Trustee Implementation Group; Deepwater Horizon Oil Spill Draft Phase 2 Restoration Plan/Environmental Assessment #7.1: Terrebonne HNC Island Restoration Project

AGENCY: Department of the Interior.

ACTION: Notice of availability; request for public comments.

SUMMARY: In accordance with the Oil Pollution Act of 1990 (OPA), the National Environmental Policy Act of 1969 (NEPA), the Deepwater Horizon Oil Spill Final Programmatic Damage Assessment Restoration Plan and Final Programmatic Environmental Impact Statement (Final PDARP/PEIS), Record of Decision and the Consent Decree, the Federal and State natural resource trustee agencies for the Louisiana Trustee Implementation Group (LA TIG) have prepared the Draft Phase 2 Restoration Plan/Environmental Assessment #7.1: Terrebonne HNC Island Restoration Project (RP/EA #7.1). RP/EA #7.1 proposes design alternatives for construction of one project to help restore bird species injured in the Louisiana Restoration Area as a result of the Deepwater Horizon (DWH) oil spill: the Terrebonne HNC Restoration Project (HNC Island project). The project was approved for engineering and design (E&D) in a 2020 restoration plan entitled Louisiana Trustee Implementation Group Final Restoration Plan #7: Wetlands, Coastal, and Nearshore Habitats and Birds (RP/EA #7). RP/EA #7.1 analyzes a reasonable range of design alternatives for the project and proposes a preferred design alternative, HNC design alternative 7A, for construction. A No Action alternative is also analyzed for the project. We invite comments on the Draft RP/EA #7.1.

DATES:

Submitting Comments: We will consider public comments on the Draft RP/EA #7.1 received on or before September 26, 2022.

Public Webinar: The LA TIG will host a public webinar on September 8, 2022, starting at 2 p.m. Central Time, followed immediately by the LA TIG's annual meeting. Members of the public may remain online at the close of the RP/EA #7.1 webinar to attend the annual meeting. The public may register for the webinar at https://www.gulfspillrestoration.noaa.gov/restoration-areas/louisiana. After registering, participants will receive a confirmation email with instructions for joining the webinar. Instructions for commenting will be provided during the webinar. Shortly after the webinar is concluded, the presentation material will be posted on the web at https://www.gulfspillrestoration.noaa.gov/restoration-areas/louisiana.

ADDRESSES: Obtaining Documents: You may download the Draft RP/EA #7.1 at https://www.gulfspillrestoration.noaa.gov/restoration-areas/louisiana. Alternatively, you may request a CD-ROM containing the Draft RP/EA #7.1 (see FOR FURTHER INFORMATION CONTACT). Hard copies are also available for review during the public comment period at the locations listed in the following table.

Library | Address | City | Zip
St. Tammany Parish Library | 310 W. 21st Avenue | Covington | 70433
Terrebonne Parish Library | 151 Library Drive | Houma | 70360
New Orleans Public Library, Louisiana Division | 219 Loyola Avenue | New Orleans | 70112
East Baton Rouge Parish Library | 7711 Goodwood Boulevard | Baton Rouge | 70806
Jefferson Parish Library, East Bank Regional Library | 4747 W. Napoleon Avenue | Metairie | 70001
Jefferson Parish Library, West Bank Regional Library | 2751 Manhattan Boulevard | Harvey | 70058
Plaquemines Parish Library | 8442 Highway 23 | Belle Chasse | 70037
St. Bernard Parish Library | 1125 E. St. Bernard Highway | Chalmette | 70043
St. Martin Parish Library | 201 Porter Street | St. Martinville | 70582
Alex P. Allain Library | 206 Iberia Street | Franklin | 70538
Vermilion Parish Library | 405 E. St. Victor Street | Abbeville | 70510
Martha Sowell Utley Memorial Library | 314 St. Mary Street | Thibodaux | 70301
South Lafourche Public Library | 16241 E. Main Street | Cut Off | 70345
Calcasieu Parish Public Library Central Branch | 301 W. Claude Street | Lake Charles | 70605
Iberia Parish Library | 445 E. Main Street | New Iberia | 70560
Mark Shirley, LSU AgCenter | 1105 West Port Street | Abbeville | 70510

Submitting Comments: You may submit comments on the Draft RP/EA #7.1 by one of the following methods:

• internet: http://www.gulfspillrestoration.noaa.gov/restoration-areas/louisiana.

• U.S. Mail: US Fish and Wildlife Service Gulf Restoration Office, 1875 Century Blvd., Atlanta, GA 30345. To be considered, mailed comments must be postmarked on or before the comment deadline given in DATES.

• During the public webinar: Written comments may be provided by the public during the webinar. Webinar information is provided in DATES.

FOR FURTHER INFORMATION CONTACT: Nanciann Regalado, at nanciann_regalado@fws.gov or 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a consent decree resolving civil claims by the Trustees against BP arising from the DWH oil spill: United States v. BPXP et al., Civ. No. 10-4536, centralized in MDL 2179, In re: Oil Spill by the Oil Rig Deepwater Horizon in the Gulf of Mexico, on April 20, 2010 (E.D. La.) (http://www.justice.gov/enrd/deepwater-horizon). Pursuant to the consent decree, restoration projects in the Louisiana Restoration Area are chosen and managed by the LA TIG. The LA TIG is composed of the following Trustees: State of Louisiana Coastal Protection and Restoration Authority, Oil Spill Coordinator's Office, Departments of Environmental Quality, Wildlife and Fisheries, and Natural Resources; DOI; NOAA; EPA; and USDA.

Background

The Final PDARP/PEIS provides for TIGs to propose phasing restoration projects across multiple restoration plans. A TIG may propose in a draft restoration plan conceptual projects to fund for an information-gathering planning phase, such as E&D (phase 1). This allows TIGs to develop information needed to fully consider a subsequent implementation phase in a later restoration plan (phase 2). In the final RP/EA #7, the LA TIG selected three conceptual projects for E&D, using funds from the “Wetlands, Coastal and Nearshore Habitats” and “Birds” restoration types, as provided for in the DWH Consent Decree. One of the projects selected for E&D in the final RP/EA #7 under the “Birds” restoration type, the Terrebonne HNC Island project, has design alternatives that are now at a stage where proposed construction alternatives (phase 2) may be analyzed under the OPA NRDA regulations and NEPA. Therefore, in the Draft RP/EA #7.1, the Louisiana TIG is proposing to implement their preferred design alternative to construct the Terrebonne HNC Island project.

Overview of the LA TIG Draft RP/EA #7.1

The Draft RP/EA #7.1 is being released in accordance with OPA NRDA regulations found in the Code of Federal Regulations (CFR) at 15 CFR part 990, NEPA and its implementing regulations found at 40 CFR parts 1500-1508, the Final PDARP/PEIS, and the Consent Decree. The RP/EA #7.1 provides OPA, NRDA, and NEPA analyses for a reasonable range of design alternatives for the Terrebonne HNC Island project and identifies the LA TIG's preferred design alternative for the project.

The preferred design alternative, HNC design alternative 7A, would increase the acreage of the island from 27.6 acres to approximately 41.4 acres of shrub nesting, ground nesting, and marsh habitat. An existing, degraded perimeter rock dike would be restored, and breakwaters could be constructed on the northeast side of the island to provide further protection as well as calm water for loafing. The approximate cost to implement the preferred alternative is $34 million. A second design alternative, HNC design alternative 7, is also evaluated in the restoration plan, as well as a No Action alternative.

Next Steps

As described above in DATES, the Trustees will host a public webinar to facilitate the public review and comment process. After the public comment period ends, the Trustees will consider and address the comments received before issuing a final RP/EA #7.1.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the RP/EA #7.1 can be viewed electronically at https://www.doi.gov/deepwaterhorizon/adminrecord.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Department of the Interior, Director of Gulf of Mexico Restoration.

[FR Doc. 2022-18287 Filed 8-24-22; 8:45 am]

BILLING CODE 4310-10-P